DEPARTMENT OF THE INTERIOR

National Park Service

[NPS-WASO-NAGPRA-20965; PPWOCRADN0-PCU00RP14.R50000]

Notice of Intent To Repatriate Cultural Items: Peabody Museum of Natural History, Yale University, New Haven, CT

AGENCY: National Park Service, Interior.

ACTION: Notice.

SUMMARY: The Peabody Museum of Natural History, in consultation with the appropriate Indian tribes or Native Hawaiian organizations, has determined the cultural items listed in this notice meet the definition of unassociated funerary objects. Lineal descendants or representatives of any Indian tribe or Native Hawaiian organization not identified in this notice that wish to claim these cultural items should submit a written request to the Peabody Museum of Natural History. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Peabody Museum of Natural History at the address in this notice by June 10, 2016.

ADDRESSES: Professor David Skelly, Director, Yale Peabody Museum of Natural History, P.O. Box 208118, New Haven, CT 06520-8118, telephone (203) 432-3752.

SUPPLEMENTARY INFORMATION: Notice is here given in accordance with the Native American Graves Protection and Repatriation Act (NAGPRA), 25 U.S.C. 3005, of the intent to repatriate cultural items under the control of the Peabody Museum of Natural History, Yale University, New Haven, CT that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1899, two cultural items were removed from Yakutat Bay in Yakutat Borough, AK, by a member of the 1899 Harriman Expedition. The items were donated to the Peabody Museum of Natural History by George Bird Grinnell in 1913. The two unassociated funerary objects are two whale bone war knives.

In June 2015, representatives from the Central Council of the Tlingit and Haida Indian Tribes of Alaska identified the knives as culturally affiliated to the Tlingit people. Peabody Museum of Natural History catalog records refine this affiliation to the Yakutat Tlingit Tribe. Through consultation, members of the Yakutat Tlingit Tribe have confirmed their culturally affiliation to the knives.

Determinations Made by the Peabody Museum of Natural History

Officials of the Peabody Museum of Natural History have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Yakutat Tlingit Tribe.

Additional Requestors and Disposition

Lineal descendants or representatives of any Indian tribe or Native Hawaiian organization not identified in this notice that wish to claim these cultural items should submit a written request with information in support of the claim to Professor David Skelly, Director, Yale Peabody Museum of Natural History, P.O. Box 208118, New Haven, CT 06520-8118, telephone (203) 432-3752, by June 10, 2016. After that date, if no additional claimants have come forward, transfer of control of the unassociated funerary objects to the Yakutat Tlingit Tribe may proceed.

The Peabody Museum of Natural History is responsible for notifying the Yakutat Tlingit Tribe and the Central Council of the Tlingit and Haida Indian Tribes of Alaska that this notice has been published.

Dated: April 27, 2016.
Melanie O'Brien,
Manager, National NAGPRA Program.

[FR Doc. 2016-11090 Filed 5-10-16; 8:45 am]

BILLING CODE 4312-50-P